DEPARTMENT OF HEALTH AND HUMAN SERVICES

Food and Drug Administration

[Docket No. 2007N-0068]

Medical Device User Fee and Modernization Act; Public Meeting; Correction

AGENCY: Food and Drug Administration, HHS.

ACTION: Notice; correction.

SUMMARY: The Food and Drug Administration is correcting a notice that appeared in the Federal Register of April 18, 2007 (72 FR 19528). The document announced a public meeting on April 30, 2007, to discuss the agency's proposed recommendations for the reauthorization of the Medical Device User Fee and Modernization Act of 2002 (MUDFMA I) for fiscal years 2008 through 2012, as well as other proposals to improve the review of medical devices and the third party inspection program. The correction is being made to reflect a change in location for the April 30, 2007, meeting. The location of the meeting is being changed because of water damage in the original meeting location.

FOR FURTHER INFORMATION CONTACT: For information regarding this notice and the original notice, contact: Erik Mettler, Office of Policy and Planning, Food and Drug Administration (HF-11), 5600 Fishers Lane, Rockville, MD 20857, 301-827-3360, FAX 301-594-6777, email: Erik.Mettler@fda.hhs.gov. For information regarding registration, contact: Cynthia Garris, Office of Communication, Education, and Radiation Programs, Center for Devices and Radiological Health, Food and Drug Administration (HFZ-220), 1350 Piccard Ave., Rockville, MD 20850, 240-276-3150 ext. 121, FAX: 240-276-3151, email: cynthia.garris@fda.hhs.gov.

SUPPLEMENTARY INFORMATION: In FR Doc. 07-1919, appearing on page 19528 in the Federal Register of Wednesday, April 18, 2007, the following correction is made:

1. On page 19528, in the third column, the first sentence under “ADDRESSES” is corrected to read “The public meeting will be held at the Food and Drug Administration, White Oak site, at 10903 New Hampshire Ave., Silver Spring, MD 20993, Bldg. 2, rm. 2031.”

Dated: April 23, 2007.
Jeffrey Shuren,
Assistant Commissioner for Policy.

[FR Doc. 07-2085 Filed 4-24-07; 3:18 pm]

BILLING CODE 4160-01-S